SMALL BUSINESS ADMINISTRATION

[Declaration of Disaster #3507]

State of Florida

Broward County and the contiguous counties of Collier, Hendry, Miami-Dade and Palm Beach in the State of Florida constitute a disaster area as a result of heavy rains and flooding beginning on May 27 and continuing through May 29, 2003. Applications for loans for physical damage as a result of this disaster may be filed until the close of business on August 4, 2003 and for economic injury may be filed until the close of business on March 5, 2004 at the address listed below or other locally announced locations: U.S. Small Business Administration, Disaster Area 2 Office, One Baltimore Place, Suite 300, Atlanta, GA 30308.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 350706 and for economic injury is 9V7400.

(Catalog of Federal Domestic Assistance Program Nos. 59002 and 59008).
Dated: June 5, 2003.
Hector V. Barreto,
Administrator.

[FR Doc. 03-15237 Filed 6-16-03; 8:45 am]

BILLING CODE 8025-01-P